DEPARTMENT OF TRANSPORTATION

National Highway Traffic Safety Administration

49 CFR Parts 567 and 568

[Docket No. NHTSA-99-5673]

RIN 2127-AE27

Vehicles Built in Two or More Stages

AGENCY: National Highway Traffic Safety Administration (NHTSA), DOT.

ACTION: Notice of meeting.

SUMMARY: This document announces the date of the final public meeting of the Negotiated Rulemaking Committee on the development of recommended amendments to the existing NHTSA regulations (49 CFR part 567, 568) governing the certification of vehicles built in two or more stages to the Federal motor vehicle safety standards (49 CFR part 571). The Committee was established under the Federal Advisory Committee Act.

DATES: The meeting is scheduled on February 21-22, 2002.

ADDRESSES: The meeting will take place at the offices of the National Truck Equipment Association, 1300 19th Street, NW, Fifth Floor, Washington, DC 20036.

FOR FURTHER INFORMATION CONTACT: For non-legal issues, you may call Charles Hott, Office of Crashworthiness Standards, at 202-366-4920.

For legal issues, you may call Rebecca MacPherson, Office of the Chief Counsel, at 202-366-2992.

You may send mail to both of these officials at the National Highway Traffic Safety Administration, 400 Seventh Street, SW, Washington, DC, 20590.

SUPPLEMENTARY INFORMATION:

Background

On May 20, 1999, the National Highway Traffic Safety Administration (NHTSA) published a notice of intent to establish an advisory committee (Committee) for a negotiated rulemaking to develop recommendations for regulations governing the certification of vehicles built in two or more stages. The notice requested comment on membership, the interests affected by the rulemaking, the issues that the Committee should address, and the procedures that it should follow. The reader is referred to that notice (64 FR 27499) for further information on these issues.

On December 14-15, 1999, interested parties attended a public meeting in Washington, DC. Since that time, the Advisory Committee has continued to meet, most recently in the Fall of 2000. While most of the issues before the Committee have been tentatively resolved, the issue of manufacturer exemptions remained. NHTSA agreed to not reconvene the Committee until it believed it had developed a solution that would be acceptable to all members of the Committee. This meeting of the Committee is being held to finally resolve that issue so that NHTSA can draft a Notice of Proposed Rulemaking. The meeting will be open to the public so that individuals who are not part of the Committee may attend and observe. Any person attending the Committee meetings may address the Committee, if time permits, or file statements with the Committee.

Authority: 5 U.S.C. sections 561 et seq.; delegation of authority at 49 CFR 1.50.

Issued on: January 25, 2002.
Stephen R. Kratzke,
Acting Associate Administrator for Safety Performance Standards.

[FR Doc. 02-2275 1-30-02; 8:45 am]

BILLING CODE 4910-59-P